DEPARTMENT OF AGRICULTURE

Rural Business-Cooperative Service

Information Collection Activity; Comment Request

AGENCY: Rural Business-Cooperative Service, Department of Agriculture.

ACTION: Proposed collection; comments requested.

SUMMARY: In accordance with the Paperwork Reduction Act of 1995), this Notice announces the Rural Business-Cooperative Service intention to request an extension for a currently approved information collection for the Rural Microentrepreneur Assistance Program (RMAP).

DATES: Comments on this notice must be received by December 31, 2019 to be assured of consideration.

FOR FURTHER INFORMATION CONTACT: Director, Specialty Programs Division, Rural Business-Cooperative Service, U.S. Department of Agriculture, 1400 Independence Avenue SW, Washington, DC 20250-3226, Telephone (202) 720-1400

SUPPLEMENTARY INFORMATION:

Title: Rural Microentrepreneur Assistance Program.

OMB Number: 0570-0062.

Type of Request: Extension and revision of a currently approved information collection.

Abstract: The purpose of the RMAP program is to support the development and ongoing success of rural microentrepreneurs and microenterprises. Direct loans and grants are made to selected Microenterprise Development Organizations (MDOs).

Estimate of Burden: Public reporting burden for this collection of information is estimated to average 2.17 hours per response.

Respondents: Nonprofits, Indian Tribes, and Public Institutions of Higher Education.

Estimated Number of Respondents: 40.

Estimated Number of Responses per Respondent: 11.

Estimated Number of Responses: 804.

Estimated Total Annual Burden Hours on Respondents: 1,748.

Comments are invited on: (1) Whether the proposed collection of information is necessary for the proper performance of the functions of the Agency, including whether the information will have practical utility; (2) the accuracy of the Agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology. Comments may be sent to Thomas P. Dickson, Rural Development Innovation Center—Regulatory Team 2, USDA, 1400 Independence Avenue SW, STOP 1522, South Building, Washington, DC 20250-1522. Telephone: (202) 690-4492. Email thomas.dickson@usda.gov. All comments received will be available for public inspection during regular business hours at the same address. All responses to this notice will be summarized and included in the request for Office of Management and Budget approval. All comments will become a matter of public record.

Bette B. Brand,
Administrator, Rural Business-Cooperative Service.

[FR Doc. 2019-23921 Filed 10-31-19; 8:45 am]

BILLING CODE P